DEPARTMENT OF AGRICULTURE

Submission for OMB Review; Comment Request; Correction

March 6, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Christmas Cactus and Easter Cactus in Growing Media from the Netherlands and Denmark.

OMB Control Number: 0579-0266.

Summary of Collection: Under the Plant Protection Act (PPA) (7 U.S.C. 7701-7772), the Secretary of Agriculture is authorized to prohibit or restrict the importation, entry, or movement of plants and plant pests to prevent the introduction of plant pests into the United States or their dissemination within the United States. The regulations contained in “Subpart-Nursery Stock, Plants, Roots, Bulbs, Seeds, and Other Plant Products,” prohibit or restrict, among other things the importation of living plants, plant parts, and seeds for propagation. Christmas cactus and Easter cactus established in growing media are now allowed to be imported into the United States from the Netherlands and Denmark under certain conditions.

Need and Use of the Information: The Animal and Plant Health Inspection Service (APHIS) requires a phytosanitary certificate and a declaration stating the plants were grown in accordance with specific conditions, an agreement between APHIS and the plant protection services of the country where the plants are grown, and an agreement between the foreign plant protection service and the grower. The information is used as a guide to the intensity of the inspection that APHIS must conduct when the shipment arrives. Without this information, all shipments would need to be inspected very thoroughly, thereby requiring considerably more time.

Description of Respondents: Business or other for-profit; Federal Government.

Number of Respondents: 20.

Frequency of Responses: Reporting: On occasion.

Total Burden Hours: 120.

Animal and Plant Health Inspection Service

Title: Importation of Peppers from Certain Central American Countries.

OMB Control Number: 0579-0274.

Summary of Collection: Under the Plant Protection Act (PPA) (7 U.S.C. 7701-7772), the Secretary of Agriculture is authorized to carry out operations or measures to detect, eradicate, suppress, control, prevent, or retard the spread of plant pests new to the United States or not known to be widely distributed throughout the United States. Regulations authorized by the PPA concerning the importation of fruits and vegetables into the United States from certain parts of the world are contained in “Subpart Fruits and Vegetables” (7 CFR 319.56-1 through 319.56-47). The Animal and Plant Health Inspection Service (APHIS) amended the fruits and vegetables regulations to allow certain type of peppers grown in approved registered production sites in Costa Rica, El Salvador, Guatemala, Honduras, and Nicaragua to be imported, under certain conditions, into the United States without treatment.

Need and Use of the Information: The regulations require the use of information collection activities including inspections by Central American national plant protection organization officials, fruit fly trapping, monitoring, recordkeeping, box labeling, and phytosanitary certificate. Failing to collect this information would cripple APHIS' ability to ensure that peppers from Central America are not carrying fruit flies.

Description of Respondents: Not-for-profit institutions.

Number of Respondents: 245.

Frequency of Responses: Recordkeeping; Reporting: On occasion.

Total Burden Hours: 2,999.

Animal and Plant Health Inspection Service

Title: Importation of Peppers from the Republic of Korea.

OMB Control Number: 0579-0282.

Summary of Collection: Under the Plant Protection Act (PPA) (7 U.S.C. 7701-7772), the Secretary of Agriculture is authorized to carry out operations or measures to detect, eradicate, suppress, control, prevent, or retard the spread of plant pests new to the United States or not known to be widely distributed throughout the United States. Regulations authorized by the PPA concerning the importation of fruits and vegetables into the United States from certain parts of the world are contained in “Subpart Fruits and Vegetables” (7 CFR 319.56-1 through 319.56-47). The Animal and Plant Health Inspection Service (APHIS) amended the fruits and vegetables regulations to allow the importation of peppers from the Republic of Korea under certain conditions. As a condition of entry, the peppers would have to be grown in approved insect-proof, pest-free greenhouses and packed in pest-exclusionary packinghouses.

Need and Use of the Information: Each shipment of pepper from the Republic of Korea must be accompanied by a phytosanitary certificate of inspection with a declaration issued by the National Plant Quarantine Service of Korea officials stating the peppers were grown in greenhouses in accordance with the regulations in 7 CFR 319-56-42 and found free of certain plant pests. Failing to collect this information would cripple APHIS' ability to ensure that peppers from Korea are not carrying plant pests and would cause millions of dollars in damage to U.S. agriculture.

Description of Respondents: Not-for-profit institutions.

Number of Respondents: 2.

Frequency of Responses: Reporting: On occasion.

Total Burden Hours: 308.

Animal and Plant Health Inspection Service

Title: Importation of Small Lots of Seeds Without Phytosanitary Certificates.

OMB Control Number: 0579-0285.

Summary of Collection: Under the Plant Protection Act (PPA) (7 U.S.C. 7701-7772), the Secretary of Agriculture is authorized to prohibit or restrict the importation, entry, or movement of plants and plant pests to prevent the introduction of plant pests into the United States or their dissemination within the United States. The regulations contained in “Subpart—Nursery Stock, Plants, Roots, Bulbs, Seeds, and Other Plant Products,” prohibit or restrict, among other things the importation of living plants, plant parts, and seeds for propagation.

The Animal and Plant Health Inspection Service (APHIS) amended the nursery stock regulations to allow the importation of small lots of seed under an import permit with specific conditions, as an alternative to the current phytosanitary certificate requirements. This change was necessary because several entities that import small lots of seed had difficulty obtaining the necessary certificates and have been adversely affected by the phytosanitary certificate requirement.

Need and Use of the Information: APHIS' Plant Protection and Quarantine program will issue a permit indicating the applicable conditions for importation if, after reviewing the application, the articles are deemed eligible to be imported into the United States under the conditions specified in the permit. Permits would be issued at the discretion of APHIS to any importer, whether an individual or an organization, who would then send the permit to the overseas supplier. A certificate of inspection in the form of a label is required to be attached to each carton of the articles and to an airway bill of lading or delivery tick accompanying the articles. Each seed packet must be clearly labeled with the name of the collector/shipper, the country or origin, and the scientific name at least to the genus level, and preferably to the species level. Without the information APHIS could not verify that imported nursery stock does not present significant risk of introducing plant pests and plant disease into the United States.

Description of Respondents: Individuals or households; business or other for-profit.

Number of Respondents: 1,600.

Frequency of Responses: Reporting: On occasion.

Total Burden Hours: 740.

Ruth Brown,
Departmental Information Collection Clearance Officer.

[FR Doc. E9-5301 Filed 3-11-09; 8:45 am]

BILLING CODE 3410-34-P